DEPARTMENT OF THE INTERIOR

National Park Service

[NPS-WASO-NAGPRA-NPS0037529; PPWOCRADN0-PCU00RP14.R50000]

Notice of Intended Disposition: General Services Administration, Pacific Rim Region, Design & Construction Division, San Francisco, CA

AGENCY: National Park Service, Interior.

ACTION: Notice.

SUMMARY: In accordance with the Native American Graves Protection and Repatriation Act (NAGPRA), the General Services Administration, Pacific Rim Region, Design & Construction Division (GSA), intends to carry out the disposition of human remains removed from Federal lands to the Native Hawaiian organization with priority for disposition in this notice.

DATES: Disposition of the human remains in this notice may occur on or after April 5, 2024. If no claim for disposition is received by March 6, 2025, the human remains in this notice will become unclaimed human remains.

ADDRESSES: Jason Hagin, Regional Historic Preservation Officer, Design & Construction Division, 50 United Nations Plaza, MB9, Room 3411, San Francisco, CA 94102, telephone (415) 244-7760, email 1445ason.hagin@gsa.gov.

SUPPLEMENTARY INFORMATION: This notice is published as part of the National Park Service's administrative responsibilities under NAGPRA. The determinations in this notice are the sole responsibility of GSA, and additional information on the human remains in this notice, including the results of consultation, can be found in the related records. The National Park Service is not responsible for the identifications in this notice.

Abstract of Information Available

Based on the information available, fragments of human remains representing an unknown number of individuals have been reasonably identified. No associated funerary objects are present. No unassociated funerary objects, sacred objects, or objects of cultural patrimony are present.

Determinations

GSA has determined that:

• The fragments of human remains described in this notice do not reflect an intact burial site and represent the physical remains of an unknown number of individuals of Native Hawaiian ancestry.

• `Ohana Keaweamahi has priority for disposition of the human remains described in this notice.

Claims for Disposition

Written claims for disposition of the human remains in this notice must be sent to the appropriate official identified in this notice under ADDRESSES. If no claim for disposition is received by March 6, 2025, the human remains in this notice will become unclaimed human remains. Claims for disposition may be submitted by:

1. Any lineal descendant or Native Hawaiian organization identified in this notice.

2. Any lineal descendant or Native Hawaiian organization not identified in this notice who shows, by a preponderance of the evidence, that they have priority for disposition.

Disposition of the human remains in this notice may occur on or after April 5, 2024. If competing claims for disposition are received, GSA must determine the most appropriate claimant prior to disposition. Requests for joint disposition of the human remains are considered a single request and not competing requests. GSA is responsible for sending a copy of this notice to the lineal descendants and Native Hawaiian organizations identified in this notice and to any other consulting parties.

Authority: Native American Graves Protection and Repatriation Act, 25 U.S.C. 3002, and the implementing regulations, 43 CFR 10.7.

Dated: February 27, 2024.
Melanie O'Brien,
Manager, National NAGPRA Program.

[FR Doc. 2024-04662 Filed 3-5-24; 8:45 am]

BILLING CODE 4312-52-P